DEPARTMENT OF LABOR

Employment and Training Administration

[TA-W-81,448]

General Dynamics Itronix Corporation, a Subsidiary of General Dynamics Corporation, Including Remote Workers Reporting to Sunrise, FL; Notice of Affirmative Determination Regarding Application for Reconsideration

By application dated May 29, 2012, a State Workforce Office requested administrative reconsideration of the negative determination regarding workers' eligibility to apply for Trade Adjustment Assistance (TAA) applicable to workers and former workers of General Dynamics Itronix Corporation, a subsidiary of General Dynamics Corporation, Sunrise, Florida. The determination was issued on May 18, 2012. The workers provide program management services.

The initial investigation resulted in a negative determination based on the findings that the subject firm did not shift program management services to a foreign country nor did the subject firm or its customers increase reliance on imports of program management services during the relevant period.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 22nd day of June 2012.
Del Min Amy Chen,
Certifying Officer, Office of Trade Adjustment Assistance.

[FR Doc. 2012-17209 Filed 7-13-12; 8:45 am]

BILLING CODE 4510-FN-P